DEPARTMENT OF JUSTICE

Notice of Lodging of Proposed Consent Decree With Dairyland Power Cooperative Under the Clean Air Act

Pursuant to 28 CFR 50.7, notice is hereby given that on June 28, 2012, a proposed Consent Decree in United States of America v. Dairyland Power Cooperative (“Dairyland”), Civil Action No. 12-cv-462, was lodged with the United States District Court for the Western District of Wisconsin.

In this civil enforcement action under the federal Clean Air Act (“Act”), the United States alleges that Dairyland—an electric utility—failed to comply with certain requirements of the Act intended to protect air quality. The complaint alleges that Dairyland violated the Prevention of Significant Deterioration (“PSD”) and Title V provisions of the Act, 42 U.S.C. 7401-7671 et seq., and related state and federal implementing regulations, at the Alma/J.P. Madgett Generating Station, a coal-fired power plant in Buffalo County, Wisconsin, and the Genoa Generating Station, a coal-fired power plant in Vernon County, Wisconsin. The alleged violations arise from the construction of modifications at the power plants and operation of the plants in violation of PSD and Title V requirements. The complaint alleges that Dairyland failed to obtain appropriate permits and failed to install and apply required pollution control devices to reduce emissions of various air pollutants. The complaint seeks both injunctive relief and civil penalties.

The proposed Decree lodged with the Court requires installation and operation of certain pollution control devices at the Alma/J.P. Madgett and Genoa plants, and the permanent cessation of operations of certain units at the Alma/J.P. Madgett plant. The settlement will reduce emissions of sulfur dioxide (“SO2”), nitrogen oxides (“NOX”), and particular matter (“PM”) through emission control requirements and limitations specified by the proposed Decree. Dairyland will also fund environmental projects at a cost of at least $5 million to mitigate the alleged adverse effects of its past violations, and will pay a civil penalty of $950,000.

The Department of Justice will receive for a period of thirty (30) days from the date of this publication comments relating to the Consent Decree. Comments should be addressed to the Assistant Attorney General, Environment and Natural Resources Division, and either emailed to pubcomment-ees.enrd@usdoj.gov or mailed to P.O. Box 7611, U.S. Department of Justice, Washington, DC 20044-7611, and should refer to United States v. Dairyland Power Cooperative, D.J. Ref. 90-5-2-1-10163.

During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or emailing a request to “Consent Decree Copy” (EESCDCopy.ENRD@usdoj.gov), fax no. (202) 514-0097, phone confirmation number (202) 514-5271. If requesting a copy from the Consent Decree Library by mail, please enclose a check in the amount of $24.25 (25 cents per page reproduction cost) payable to the U.S. Treasury or, if requesting by email or fax, forward a check in that amount to the Consent Decree Library at the address given above.

Maureen Katz,
Assistant Chief, Environmental Enforcement Section, Environment and Natural Resources Division.

[FR Doc. 2012-16353 Filed 7-3-12; 8:45 am]

BILLING CODE 4410-15-P